DEPARTMENT OF COMMERCE

Bureau of Industry and Security

Fiber Materials, Inc., 5 Morin Street, Biddeford, ME 04005, Respondent; Order Waiving Remainder of Denial Order Period

On March 12, 2007, BIS issued an order denying the export privileges of Fiber Materials, Inc. (“FMI”), of Biddeford, Maine, until November 18, 2015, pursuant to Section 11(h) of the Export Administration Act of 1979, as amended (“Act”), and Section 766.25 of the Export Administration Regulations (“Regulations”), based on FMI's criminal conviction for violating the Act by knowingly exporting and causing to be exported from the United States to India a component, accessory and controls for a hot isostatic press without having obtained the required export license from BIS.¹ The March 12, 2007 Order provided a standard denial of export privileges that prohibited FMI from participating in any way in any transaction involving the export from the United States of any item subject to the Regulations or in any other activity subject to the Regulations.

¹ The Regulations are currently codified in the Code of Federal Regulations at 15 CFR parts 730-774 (2014). The underlying criminal conduct occurred in April 1988, for which FMI was tried criminally in 1995, and for which ultimately a judgment of conviction issued against FMI following its sentencing on November 18, 2005. See March 12, 2007 Order; U.S. v. Lachman, 521 F.3d 12 (1st Cir. 2008). Since August 21, 2001, the Act (50 U.S.C. app. §§ 2401-2420 (2000)) has been in lapse and the President, through Executive Order 13222 of August 17, 2001 (3 CFR, 2001 Comp. 783 (2002)), which has been extended by successive Presidential Notices, the most recent being that of August 7, 2014 (79 FR 46959 (Aug. 11, 2014)), has continued the Regulations in effect under the International Emergency Economic Powers Act (50 U.S.C. 1701, et seq.) (2006 & Supp. IV 2010).

Subsequent to the issuance of the March 12, 2007 Order, ownership and management control of FMI changed. Ultimately, by letter dated February 10, 2014, GrafTech International Ltd. (“GrafTech”) submitted a request on behalf of FMI, GrafTech's wholly-owned subsidiary, seeking to terminate the denial order. The request seeks relief on various grounds, including due to a strong compliance program that has been put into place and updated by FMI/GrafTech. BIS has reviewed the compliance program, including through an Office of Export Enforcement site visit at FMI. Upon consideration of the compliance program and the totality of the circumstances found here,

It is therefore ordered:

1. That the remainder of the denial order period imposed on Fiber Materials, Inc., 5 Morin Street, Biddeford, ME 04005, its successors or assigns, and, when acting for or on behalf of FMI, its officers, representatives, agents or employees, under the March 12, 2007 Order is hereby waived upon the effective date of this Order; and

2. That this Order shall be effective upon publication in the Federal Register.

Issued this 19th day of December, 2014.
Karen Nies-Vogel,
Director, Office of Exporter Services.

[FR Doc. 2014-30301 Filed 12-29-14; 8:45 am]

BILLING CODE P